DEPARTMENT OF COMMERCE

Patent and Trademark Office

International Work Sharing

ACTION: Proposed collection; comment request.

SUMMARY: The United States Patent and Trademark Office (USPTO), as part of its continuing effort to reduce paperwork and respondent burden, invites the general public and other Federal agencies to comment on the extension of a continuing information collection, as required by the Paperwork Reduction Act of 1995, Public Law 104-13 (44 U.S.C. 3506(c)(2)(A)).

DATES: Written comments must be submitted on or before December 8, 2015.

ADDRESSES: Written comments may be submitted by any of the following methods:

• Email: InformationCollection@uspto.gov. Include “0651-0079 comment” in the subject line of the message.

• Federal Rulemaking Portal: http://www.regulations.gov.

• Mail: Marcie Lovett, Records Management Division Director, Office of the Chief Information Officer, United States Patent and Trademark Office, P.O. Box 1450, Alexandria, VA 22313-1450.

FOR FURTHER INFORMATION CONTACT: Requests for additional information should be directed to Amber Ostrup, Program Manager, United States Patent and Trademark Office, P.O. Box 1450, Alexandria, VA 22313-1450; by telephone at 571-272-7984; or by email at Amber.Ostrup@USPTO.GOV with “0651-0079 comment” in the subject line. Additional information about this collection is also available at http://www.reginfo.gov under “Information Collection Review.”

SUPPLEMENTARY INFORMATION:

I. Abstract

The United States Patent and Trademark Office (USPTO) established a Work Sharing Pilot Program in conjunction with the Japan Patent Office (JPO) and the Korean Intellectual Property Office (KIPO) to study how the exchange of search results between offices for corresponding counterpart applications improves patent quality and facilitates the examination of patent applications in both offices. Under this Work Sharing Pilot Program, two Collaborative Search Pilot (CSP) programs—USPTO-JPO and USPTO-KIPO—have been implemented. Through their respective CSP(s), each office concurrently conducts searches on corresponding counterpart applications. Each office's search results are exchanged following these concurrent searches, which provides examiners with a comprehensive set of art before them at commencement of examination.

Work sharing between Intellectual Property (IP) offices is critical for increasing the efficiency and quality of patent examination worldwide. The exchange of information and documents between IP offices also benefits applicants by promoting compact prosecution, reducing pendency, and supporting patent quality by reducing the likelihood of inconsistencies in patentability determinations among IP offices when considering corresponding counterpart applications. The gains in efficiency and quality are achieved through a collaborative work sharing approach to the evaluation of patent claims. As a result of this exchange of search reports, the examiners in both offices may have a more comprehensive set of references before them when making an initial patentability determination.

II. Method of Collection

The forms associated with this collection may be downloaded from the USPTO Web site in Portable Document Format (PDF) and filled out electronically. Requests to participate in the International Work Sharing Program must be submitted online using EFS-Web, the USPTO's web-based electronic filing system.

III. Data

OMB Number: 0651-0079.

IC Instruments: The individual instruments in this collection, as well as their associated forms, are listed in the table below.

Type of Review: Revision of a currently previously existing Information Collection.

Affected Public: Individuals or households; businesses or other for-profits; and not-for-profit institutions.

Estimated Number of Respondents: 900 responses per year. The USPTO estimates that 100 percent of the annual responses for this collection will be submitted electronically via EFS-Web, which customers may access through the USPTO Web site.

Estimated Time per Response: The USPTO estimates that it will take the public approximately between 5 minutes (.083 hours) and 3 hours to complete the information in this collection, including the time to gather the necessary information, prepare the forms or documents, and submit the completed request to the USPTO.

Estimated Total Annual Respondent Burden Hours: 1,533.33 hours.

Estimated Total Annual Respondent (Hourly) Cost Burden: $628,530.00. The USPTO expects that an attorney will complete the instruments associated with this information collection. The professional hourly rate for an attorney is $410. Using this hourly rate applied to the total annual hour burden estimation of 1,533.33 hours, the USPTO estimates $628,530.00 per year for the total hourly costs associated with respondents.

The time per response, estimated annual responses, and estimated annual hour burden associated with each instrument in this information collection is shown in the table below.

IC No. | Information collection instrument | Estimated time for responses (minutes) | Estimated annual responses | Estimated annual burden hours | Rate ($/hr)
|  | (a) | (b) | (a) × (b)/60 = (c) | (d)
1 | Petition for Participation in the Collaborative Search Pilot (CSP) Program Between the Japan Patent Office (JPO) and the USPTO (PTO/SB/437JP) | 180 | 250 | 750 | $410.00
2 | Petition for Participation in the Collaborative Search Pilot (CSP) Program Between the Korean Intellectual Property Office (KIPO) and the USPTO (PTO/SB/437KR) | 180 | 250 | 750 | 410.00
3 | CSP Survey (PTO/SB/CSP Survey 1) | 5 | 400 | 33.33 | 410.00
Total |  |  |  | 900 | 1,533.33

Estimated Total Annual (Non-hour) Respondent Cost Burden: $0. There are no estimated filing fees or postage costs for this collection.

IV. Request for Comments

Comments are invited on:

(a) Whether the proposed collection of information is necessary for the proper performance of the functions of the agency, including whether the information shall have practical utility;

(b) the accuracy of the agency's estimate of the burden (including hours and cost) of the proposed collection of information, including the validity of the methodology and assumptions used;

(c) ways to enhance the quality, utility, and clarity of the information to be collected; and

(d) ways to minimize the burden of the collection of information on respondents, including through the use of automated collection techniques or other forms of information technology, e.g., permitting electronic submission of responses.

Comments submitted in response to this notice will be summarized or included in the request for OMB approval of this information collection; they will also become a matter of public record.

Dated: October 2, 2015.
Marcie Lovett,
Records Management Division Director, USPTO, Office of the Chief Information Officer.

[FR Doc. 2015-25828 Filed 10-8-15; 8:45 am]

BILLING CODE 3510-16-P